DEPARTMENT OF COMMERCE

Census Bureau

Survey of Residential Alterations and Repairs

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 24, 2006.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Joseph Huesman, U.S. Census Bureau, Room 2125 Building 4, Washington, DC 20233-6916, (301) 763-4822 (or via the Internet at joseph.john.huesman@census.gov).

SUPPLEMENTARY INFORMATION:

I. Abstract

The Census Bureau plans to request an extension of the currently approved Office of Management and Budget (OMB) clearance of the Survey of Residential Alterations and Repairs, also known as the (SORAR). SORAR collects monthly data on expenditures for residential improvements and repairs from owners or designated representatives of rental and vacant housing units. This segment of the economy amounted to more than $199 billion in 2004.

The Census Bureau also conducts the Consumer Expenditures Survey to collect data for improvement and repairs to owner-occupied residential properties. The Census Bureau publishes estimates from these two sources in the C50 Series, Expenditures for Residential Improvements and Repairs. These estimates are used by a variety of private businesses and trade associations for marketing studies, economic forecasts, and assessments of the remodeling and construction industries. They also help governments evaluate economic policy. For example, the Bureau of Economic Analysis uses these statistics to develop the structures component of gross private domestic investment in the national income and product accounts.

II. Method of Collection

The universe for this survey is the owners or designated representatives of the more than 40 million rental and vacant housing units in the United States. A sample of these owners, as identified in the Consumer Expenditure Survey, is mailed the SORAR-705 form. They are asked to report detailed alterations, improvement, and repair expenditures for their entire property.

Approximately 4,000 owners are sampled each month. The sample design uses a rotation procedure that replaces one-twelfth of the sample survey each month. The data collected will continue to be adjusted for unreturned or unusable forms by region and metropolitan statistical area (MSA). The weights are adjusted so that sample counts of renter occupied and vacant housing units agree with independently derived controls from the Current Population Survey.

III. Data

OMB Number: 0607-0130.

Form Number: SORAR-705.

Type of Review: Regular Review.

Affected Public: Individuals or households, Businesses or Other for Profit, and State or Local Governments.

Estimated Number of Respondents: 4,000.

Estimated Time Per Response: 15 minutes.

Estimated Total Annual Burden Hours: 12,000.

Estimated Total Annual Cost: The cost to the respondents is estimated to be $120,000.

Respondents Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 14, 2006.
Madeleine Clayton,
Management Analyst, Office of the Chief Information Officer.

[FR Doc. E6-2364 Filed 2-17-06; 8:45 am]

BILLING CODE 3510-07-P